DEPARTMENT OF THE INTERIOR

Bureau of Land Management

[MT-912-08-0777-XX]

Notice of Public Meetings; Western Montana, Central Montana, Eastern Montana, and Dakotas Resource Advisory Council Meetings

AGENCY: Bureau of Land Management, Interior.

ACTION: Notice of Public Meetings.

SUMMARY: In accordance with the Federal Land Policy and Management Act (FLPMA) and the Federal Advisory Committee Act of 1972 (FACA), the U.S. Department of the Interior, Bureau of Land Management (BLM), the Western Montana, Central Montana, Eastern Montana, and Dakotas Resource Advisory Councils will meet as indicated below.

DATES: All four RACs will meet jointly on May 20-21, 2008. The joint meeting will be from 1 p.m. to 5 p.m. on May 20. The meeting will continue from 8 a.m. to noon on May 21. The meeting will be held at the Hampton Inn, 5110 Southgate Drive, Billings, Montana. Topics to be discussed include energy development, off-highway vehicle use, access, planning, and recreation fees. A public comment period will be held on May 20 at 3:30 p.m.

All four RACs will also hold individual meetings. The Central Montana RAC will meet May 19-20, 2008. The meeting will be from 1 p.m. to 5 p.m. on May 19 and will continue on May 20 from 8 a.m. to noon at the BLM Montana State Office at 5001 Southgate Drive, Billings, Montana. Among the items to be discussed are the Malta and Upper Missouri River Breaks National Monument Resource Management Plans, Undaunted Stewardship, and Forest Service recreation fees. The public comment period will be at 1 p.m. on May 19.

The Eastern Montana RAC will meet on May 21, 2008, from 1 p.m. to 3 p.m. at the BLM Montana State Office at 5001 Southgate Drive, Billings, Montana. Among its items of discussion will be upcoming meeting dates and follow-up on items from the joint RAC meeting. The public comment period will be at 1 p.m.

The Dakotas RAC will meet on May 21, 2008, from 1 p.m. to 5 p.m. at the BLM Montana State Office at 5001 Southgate Drive, Billings, Montana. Among its items of discussion will be the North Dakota and South Dakota resource management plans and coal development. The public comment period will be at 1 p.m.

The Western Montana RAC will meet on May 21, 2008, from 1 p.m. to 3 p.m. at the Hampton Inn, 5110 Southgate Drive, Billings, Montana. The public comment period will be at 1 p.m. The agenda items include Forest Service recreation fees. The public comment period will be at 1 p.m.

FOR FURTHER INFORMATION CONTACT: Mary Apple, State RAC Coordinator, BLM Montana State Office, 5001 Southgate Drive, Billings, MT 59101, (406) 896-5258.

SUPPLEMENTARY INFORMATION: The 15-member Councils advise the Secretary of the Interior, through the Bureau of Land Management, on a variety of planning and management issues associated with public land management in Montana and the Dakotas All meetings are open to the public. The public may present written comments to the Councils. Each formal Council meeting will also have time allocated for hearing public comments. Depending on the number of persons wishing to comment and time available, the time for individual oral comments may be limited. Individuals who plan to attend and need special assistance, such as sign language interpretation, or other reasonable accommodations, should contact the BLM as provided above.

Dated: April 10, 2008.
Theresa M. Hanley,
Acting State Director, Montana/Dakotas.

[FR Doc. E8-8260 Filed 4-16-08; 8:45 am]

BILLING CODE 4310-$$-P